DEPARTMENT OF JUSTICE

National Institute of Corrections

Solicitation for a Cooperative Agreement—Evaluation of the NIC Institutional Culture Initiative

AGENCY: National Institute of Corrections, Department of Justice.

ACTION: Solicitation for a cooperative agreement.

SUMMARY: The Department of Justice (DOJ), National Institute of Corrections (NIC) announces the availability of funds in FY2003 for a cooperative agreement to develop and implement an evaluation design to assess the effectiveness of the National Institute of Corrections Institutional Culture Initiative (ICI). The ICI includes a prison culture assessment instrument as well as a protocol for assessing prison culture. The ICI also includes the following projects: Strategic Planning, Management and Response; and Leading and Sustaining Change as well as a wide spectrum of additional interventions which will be provided through NIC under the heading of Intensive Technical Assistance.

A Cooperative Agreement is a form of assistance relationship where the National Institute of Corrections is substantially involved during the performance of the award. An award will be made to an organization that will, in collaboration with the Institute, design and implement an evaluation process to determine if the projects in NIC's ICI have positively impacted the culture of the prisons in the project.

DATES: Application must be received by 4 p.m. on Wednesday, July 23, 2003.

ADDRESSES: Mailed applications must be sent to: Director, National Institute of Corrections, 320 First Street, NW., Room 5007, Washington, DC 20534. Applicants are encouraged to use Federal Express, UPS, or similar service to ensure delivery by the due date as mail at NIC is still being delayed due to decontamination procedures.

Hand delivered applications should be brought to 500 First Street, NW., Washington, DC 20534. At the front desk, call (202)307-3106, extension 0 for pickup. Faxes or e-mailed applications will not be accepted.

FOR FURTHER INFORMATION CONTACT: A copy of this announcement and the required application forms can be downloaded from the NIC Web site at www.nicic.org. Hard copies of the announcement can be obtained by calling Rita Rippetoe at 1-800-995-6423, extension 44222 or e-mail: rrippetoe@bop.gov. Additionally, you may request packets of information on Institutional Culture Assessment Protocol and the Organizational Culture Assessment Instrument; Strategic Planning, Management and Response; and Leading and Sustaining Change from Sharon Floyd, 320 First Street, NW., Room 5007, Washington, DC 20534. At your discretion you may purchase the Cameron and Quinn book cited in this Request for Proposal (RFP) through Prentice Hall.

All technical or programmatic questions concerning this announcement should be directed to Randy Corcoran, Correctional Program Specialist, National Institute of Corrections. He can be reached by calling 1-800-995-6423, extension 40058 or by e-mail at tcorcoran@bop.gov.

SUPPLEMENTARY INFORMATION: Background: Over the last several years, the NIC Prisons Division has responded to requests from prisons for assistance in addressing problems of staff sexual misconduct, excessive violence, high staff turnover rates and other types of problems. NIC's approach to assisting agencies with these problems has included on-site technical assistance, training programs and dissemination of information. Throughout the extensive work with institutions in addressing these problems, consistent themes from correctional staff and the offender population emerged, underscoring the importance of the institutional environment. Staff and inmate relations, consistent and fair supervisors, well trained staff, and strong institutional and agency leadership teams are some of the components critical to a healthy environment as highlighted by these projects. Other work done at NIC in the area of mission change of institutions and in identifying the challenges of keeping an effective workforce have also provided background for NIC's interest in institutional culture. The reoccurrence of many of these problems after traditional interventions has prompted NIC to examine more thoroughly the underlying causes of the presenting problems.

Through a cooperative agreement, NIC developed an instrument and protocol for assessing organizational culture in prisons. The assessment instrument originated from the works of Kim S. Cameron and Robert E. Quinn in their book Diagnosing and Changing Organizational Culture which they based on the competing values framework. The instrument resulting from their work published in 1999 is called the Organizational Culture Assessment Instrument (OCAI). The OCAI was modified, with their approval, to be applied in prisons and is called the Organizational Culture Assessment Instrument-Prisons (OCAI-P). The protocol and instrument have been applied in 12 prisons. NIC has concurrently been working on the development of intervention strategies intended to assist prisons in changing their cultures following the application of OCAI-P and Institutional Culture Assessment Protocol under the direction of NIC's existing Cooperative Agreement vendor.

The three main intervention strategies being planned for utilization are: Strategic Planning, Management and Response; Leading and Sustaining Change and Intensive Technical Assistance which will provide a wide spectrum of additional interventions. The interventions strategies are being developed and are generally described below.

1. Strategic Planning, Management and Response: A cooperative agreement was awarded in September 2002 to review Strategic Planning models being used by state departments of corrections and other public sector agencies and to select one Strategic Planning model that would be of greatest benefit to state departments of corrections and state prisons. The selected model, which is 50% complete, will be fully developed with all relevant materials that would be required for implementation in an operating correctional agency by the fall of 2003. A supplement to this cooperative agreement will test the model as well as develop and conduct a training program. In the training program twelve correctional professionals will learn how to facilitate use of the model in selected sites to improve prison culture.

2. Leading and Sustaining Change: This cooperative agreement (the RFP will be announced in the Federal Register and on NIC's Web site shortly) will provide for the implementation of a Change Leadership developmental process. This process will prepare/train the wardens and other correctional leaders who will be instrumental in changing the culture of the prisons participating in this initiative. In addition, it will provide for professional Change Advisors who will work with the wardens and other correctional leaders to determine the various strategies which will be implemented to effectively change the culture of the prison. The process will also provide options for assessing an institution's Readiness for Change and provide documentation of the stages of change for all the institutions. A final document summarizing “Lessons Learned” about changing the culture of a state prison will be produced.

3. Intensive Technical Assistance: This intervention category may cover a wide spectrum of assistance to prisons following an Institutional Culture Assessment. This assistance can take the form of training or consultation and may cover topics such as: management training, supervisor training as well as training in communications, diversity, sexual misconduct and use of force.

Purpose: To design and implement an evaluation process to determine if the projects comprising the NIC Institutional Culture Initiative have positively impacted the culture of the prisons in the project.

Scope of Project: 1. Develop an evaluation design which will determine whether the following projects positively impacted the culture of the prisons involved in the project: Institutional Culture Assessment, Leading and Sustaining Change, Strategic Planning and Response, and intensive technical assistance. The evaluation design should clearly identify all information/data/processes which need to be implemented at the beginning of each project in order to ultimately assess the project outcomes.

2. Identify or develop all criteria, materials and instruments which will be utilized in the evaluation of each project.

3. Discuss and defend the final decision regarding whether individual projects will need individual evaluation tools or whether common evaluation criteria/tools will be used on all the projects. Regardless of the decision, address how all of the projects will relate to the final outcome.

4. Discuss the feasibility of determining the impact individual projects have on any institutional culture changes (for example, does having the warden and executive staff trained in Change Leadership contribute most significantly to changing the culture or are all interventions too integrated to isolate individual project contributions to the change in prison culture).

5. Implement all aspects of the evaluation design on all projects and prison sites in the Institutional Culture initiative. Address how to implement the evaluation design in the projects which have been in progress for one or more years.

6. Document the research design and data/information which is obtained in order to evaluate whether there has been a positive impact on the prison culture. Provide a Final Report and Executive Summary of the work completed in this phase of the evaluation project.

Specific Requirements: 1. The awardee is required to become familiar with the materials, history, goals and results to date of NIC's work in the entire Institutional Culture Initiative to include all assessment and intervention efforts.

2. An assessment of the prison culture in eight (8) correctional facilities was completed in 2002-2003, using the Organizational Culture Assessment Instrument—Prisons (OCAI-P). Four (4) additional prisons will receive assessments within the next few months. A professional Change Advisor/consultant will begin working with the wardens of these prisons to change the prison culture in September 2003. The awardee of this evaluation cooperative agreement will need to be prepared to identify and collect any baseline information which will be necessary for the successful evaluation of these projects and prisons.

3. The Institutional Culture Assessment information (collected by a separate vendor) for each prison in the Institutional Culture Initiative will be made available to the awardee for the purposes of evaluating the impact of the projects. The applicant is encouraged to use this extensive information in the evaluation design. A modified version of the Assessment Protocol may be proposed as a means of measuring the impact of all the work done to change the culture or another means of measuring the impact may be proposed.

4. The successful applicant will propose a project approach that will ensure accomplishment of each of the stated objectives of this project. The applicant will ensure that the project team is comprised of persons with technical expertise in the area of research and evaluation methods as well as persons with familiarity with the correctional environment.

5. With satisfactory performance, it is assumed that there will be some additional funds each year for the awardee to collect information which will be necessary for the final impact evaluation. At that point in time, the awardee will be asked to provide a Final Report with an Executive Summary. They will also be asked to produce a camera-ready monograph on Lessons Learned about changing prison culture. Funds will be provided in subsequent years and should not be requested in the current application. The purpose of adding this information is to inform the applicant regarding the expected outputs to assure the research design addresses all requirements.

6. Since the goal of the Institutional Culture initiative is to change the culture (not the climate) of a prison, there is the expectation that various interventions (strategic planing, intensive TA, etc.) may be utilized and may extend over a period of several years. The applicant should reflect the possibly longer time frame which will be required to measure the impact of the interventions in the evaluation design.

7. The selected applicant will be required to attend a preliminary meeting for the purpose of getting an overview of the current NIC work in the Institutional Culture Initiative as well as a refinement of the project work plan. The applicant is also required to attend two (2) coordinating meetings each year with all the other project staff from the ICI.

8. Coordinate with the NIC project manager extensively and routinely throughout the length of the project. The person designated as project director is required to be the person who will manage the project on a day-to-day basis and who has full decision-making authority to work with the NIC project manager. This person must have enough time dedicated to the project to assure they are available to direct day to day activities of the project and to be available for collaboration with the NIC project manager. Applicants may use whatever position titles they wish with other project staff, but the position of project director must be as described in this paragraph.

9. Applicants should identify in the proposal specific strategies for assuring a collaborative effort between their project team and NIC.

Application Requirements: Applications must be submitted using OMB Standard Form 424, Federal Assistance and attachments. (Copies can be downloaded from the NIC Web site at www.nicic.org. The applications should be concisely written, typed double spaced and referenced to the project by the “NIC Application Number” and Title referenced in this announcement.

Submit an original and five copies. The original should have the applicant's signature in blue ink. A cover letter must identify the responsible audit agency for the applicant's financial accounts.

The narrative portion of this cooperative agreement application should include, at a minimum.

1. A brief paragraph that indicates the applicant's understanding of the purpose of this cooperative agreement;

2. One or more paragraphs to detail the applicants understanding of Impact Evaluation;

3. A brief paragraph that summarizes the project goals and objectives;

4. A clear description of the methodology that will be used to complete the project and achieve its goals;

5. A clearly developed and detailed Project Plan which demonstrates how the various goals and objectives of the project will be achieved through its various activities so as to produce the required results;

6. A chart of measurable project milestones and time lines for the completion of each milestone;

7. A description of the staffing plan for the project, including the role of each project staff, the time commitment for each, the relationship among the staff (who reports to whom), and a signed statement from individual staff that they will be available to work on this project;

8. A description of the qualifications of the applicant organization and documentation of each project staff's knowledge, skills and abilities to carry out their assigned project responsibilities;

9. A budget that details all costs for the project, shows consideration for all contingencies for this project, and notes a commitment to work within the budget proposed (budget should be divided into object class categories as shown on application Standard Form 424A). A budget narrative must be included which explains how all costs were determined.

The project must be completed within one year of its award date.

Authority: Public Law 93-415.

Funds Available: The award will be limited to a maximum of $150,000.00 (direct and indirect costs). Funds may be used only for the activities that are linked to the desired outcome of the project. No funds are transferred to state or local governments. Additional funding will be requested in subsequent years. Future award decisions will be based upon satisfactory performance of the awarded and upon the availability of funding.

This project will be a collaborative venture with the NIC Prisons Divisions.

Eligibility of Applicants: An eligible applicant in any state or general unit of local government, private agency, educational institution, or organization, individual or team with expertise in the described areas.

Review considerations: Applications received under this announcement will be subject to a 3 to 5 person NIC Peer Review Process. One of the reviewers will be from Bureau of Prisons staff. No companies, project staff or consultants who are working on any of the projects within the Institutional Culture Initiative as identified in the RFP, may participate in the evaluation which will be proposed in response to this RFP. The purpose for this restriction is to assure that the evaluation team is totally separate from any of the projects which will be evaluated.

Numbers of Awards: 1.

NIC Application Number: 03P23. This number should appear as a reference line in the cover letter, in box 11 of Standard Form 424, and outside of the envelope in which the application is sent.

Catalog of Federal Domestic Assistance Number: 16.602.

Executive Order 12372: This project is not subject to the provisions of Executive Order 12372.

This announcement is expected to be awarded by August 27, 2003.

Morris L. Thigpen,
Director, National Institute of Corrections.

[FR Doc. 03-15882 Filed 6-23-03; 8:45 am]

BILLING CODE 4410-36-M